DEPARTMENT OF AGRICULTURE

Animal and Plant Health Inspection Service

[Docket No. 01-038-1]

Temporary Closure of the Miami Animal Import Center's Bird Quarantine Facilities

AGENCY: Animal and Plant Health Inspection Service, USDA.

ACTION: Notice.

SUMMARY: We are giving notice that the Miami Animal Import Center will be unavailable for the quarantine of birds (except for confiscated or smuggled birds) from June 1, 2001, through August 31, 2001, due to facility renovations. During the closure, avian importers requiring the services of a United States Department of Agriculture animal import center for the quarantine of imported birds may utilize either the New York Animal Import Center or the Los Angeles Animal Import Center. Avian importers who need to make alternate arrangements during the temporary closure period of the Miami Animal Import Center should contact either the New York Animal Import Center, USDA, APHIS, VS, 200 Drury Lane, Rock Tavern, NY 12575, (845) 564-2950 or the Los Angeles Animal Import Center, USDA, APHIS, VS, 11850 South La Cienega Boulevard, Hawthorne, CA, 90250, (310) 725-1970. Further information regarding avian importation and quarantine is also available on the Internet at http://www.aphis.usda.gov/NCIE/ind-3000.html.

FOR FURTHER INFORMATION CONTACT: Dr. Sara Kaman, Senior Staff Veterinarian, Technical Trade Services, National Center for Import and Export, VS, APHIS, 4700 River Road Unit 40, Riverdale, MD 20737-1231; (301) 734-8364.

Done in Washington, DC, this 11th day of May 2001.
Richard L. Dunkle,
Acting Administrator, Animal and Plant Health Inspection Service.

[FR Doc. 01-12431 Filed 5-16-01; 8:45 am]

BILLING CODE 3410-34-P